FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants

WTG Logistics, Inc., 140 Epping Road, Exeter, NH 03833. Officers:Kevin O'Donnell, Vice President (Qualifying Individual). William M. Walsh, President.

Form Logistics Corp., 2752 Lincoln Boulevard, Merrick, NY 11566. Officer: Cary Weinberg, President (Qualifying Individual).

World Shipping, Inc. dba United World Line, 2700 Crescentville Road, Ste. 200, Cincinnati, OH 45069. Officers:Michael W. McCann, Vice President (Qualifying Individual). Frederick M. Hunger, President.

AJ Cargo Express, 3340 Fort Independence Street, Bronx, NY 10463. Officers:Alejandro A. Julian, President (Qualifying Individual). Arlenne C. Perez-Julian, Vice President.

Non-Vessel-Operating Common Carrier and Ocean Freight Forwarder Transportation Intermediary Applicants

Ocean Freight Wholesalers Incorporated, 3401 NW. 82nd Avenue, Miami, FL 33122. Officers:Nelson Cabrera, President (Qualifying Individual). Lilly Cabrera, Secretary.

Sea and Sky Shipping, Inc., 13605 Wild Iris Ct., Pineview, NC 28134. Officers:Omar Kazzaz, Vice President (Qualifying Individual). Leslie Wendt, President.

Krystal Logistics USA, Inc., 703 Waterford Way, Suite 650, Miami, FL 33126. Officers:Carlos X. Valdano, President (Qualifying Individual). Juan C. Valdano, Secretary.

Saia Motor Freight Line, Inc., 11465 Johns Creek Parkway, Suite 400, Duluth, GA 30097. Officer: Tony Albanese, Sen. Vice President of Oper. (Qualifying Individual).

Intercontinental Cargo Enterprises, Inc., 10205 NW. 19th Street, Suite 106, Miami, FL 33172. Officers:Guillermo Hernandez, Vice President (Qualifying Individual). Gustavo Merck, President.

Global Logistics Inc., 1425 Louis Ave., Suite 102, Elk Grove Village, IL 60007. Officers:Michael H. Stewart, Vice President (Qualifying Individual). Kenneth J. Tednes, President.

Miami International Freight, Inc., 6989 NW. 84th Ave., Miami, FL 33166. Officers:Hugo Carmona, Secretary (Qualifying Individual). Antonio R. Mosquiera, President.

Dated: July 7, 2006.
Karen V. Gregory,
Assistant Secretary.

[FR Doc. E6-10933 Filed 7-11-06; 8:45 am]

BILLING CODE 6730-01-P